DEPARTMENT OF COMMERCE

National Oceanic and Atmospheric Administration

RIN 0648-XC371

Marine Mammals; Issuance of Permits

AGENCY: National Marine Fisheries Service (NMFS), National Oceanic and Atmospheric Administration (NOAA), Commerce.

ACTION: Notice; issuance of permits.

SUMMARY: Notice is hereby given that six individuals and institutions have been issued Letters of Confirmation for activities conducted under the General Authorization for Scientific Research on marine mammals. See SUPPLEMENTARY INFORMATION for a list of names and address of recipients.

ADDRESSES: The Letters of Confirmation and related documents are available for review upon written request or by appointment in the following office:

Permits and Conservation Division, Office of Protected Resources, NMFS, 1315 East-West Highway, Room 13705, Silver Spring, MD 20910; phone (301)427-8401; fax (301)713-0376.

FOR FURTHER INFORMATION CONTACT: Office of Protected Resources, Permits and Conservation Division, (301)427-8401.

SUPPLEMENTARY INFORMATION: The requested Letters of Confirmation have been issued under the authority of the Marine Mammal Protection Act of 1972, as amended (16 U.S.C. 1361 et seq.), and the regulations governing the taking and importing of marine mammals (50 CFR part 216). The General Authorization allows for bona fide scientific research that may result only in taking by level B harassment of marine mammals. The following Letters of Confirmation (LOC) were issued in Fiscal Year 2013.

File No. 17235: Issued to the Virginia Aquarium and Marine Science Center, Virginia Beach, VA on November 21, 2012, authorizes close approach, photo-identification, video, behavioral observations, and passive acoustic recordings of 17 cetacean species and 4 pinniped species in inland and offshore waters of Maryland, Virginia, and North Carolina. The focus species is bottlenose dolphins (Tursiops truncatus) and the primary study area is off Virginia Beach. Objectives for the bottlenose dolphin project are to: (1) Collect and maintain a long-term record of bottlenose dolphins in coastal waters of Virginia and (2) provide data to the Mid-Atlantic Bottlenose Dolphin Catalog to test the hypothesized stock structure for this species. Other objectives include to: (1) Collect distribution, group size, and photo-id data on cetaceans and pinnipeds in the larger study area and (2) identify and monitor pinniped haul out sites in Virginia and North Carolina and to track the abundance and residency of individual seals. The LOC expires on November 30, 2017.

File No. 17418: Issued to James Ha, Ph.D., University of Washington, Seattle, WA on February 19, 2013, authorizes close approach, photo-identification, behavioral observations, and focal follows of bottlenose dolphins in the Middle Keys, Florida. Specifically, the study area ranges from Lignumvitae Key to the northeast shore of Big Pine Key and includes bay and ocean waters out to two miles. Objectives are to: (1) Begin an in-depth population demographic study of bottlenose dolphins in the area and (2) identify foraging strategies and determine what percentage of resident dolphins is influenced by anthropogenic sources of food. The LOC was originally supposed to expire on February 28, 2018. However, on July 25, 2013, Dr. Ha requested that his LOC be terminated with an immediate effective date, so LOC No. 17418 is no longer valid.

File No. 17988: Issued to Jessica Weiss Taylor of the Outer Banks Center for Dolphin Research, Kill Devil Hills, NC, on April 5, 2013, for research activities including vessel surveys, close approach, photo-identification, and behavioral observations, including focal follows of bottlenose dolphins in waters of North Carolina. Specifically the study area comprises the Roanoke, Croatan, Currituck, Albemarle, and Pamlico Sounds and the adjacent Atlantic Ocean to a maximum distance of 5 miles offshore. Objectives are to: (1) Investigate patterns of seasonal and year-round residency in the northern Outer Banks; (2) estimate local abundances of dolphins in the northern Outer Banks seasonally and year-round; (3) identify and characterize any biological and/or ecological stressors on bottlenose dolphins in the northern Outer Banks; (4) describe the social structure of bottlenose dolphin populations in the northern Outer Banks through examination of social networks and male pair bonds; and (5) promote awareness of bottlenose dolphin conservation throughout the local and visiting community. The LOC expires on April 15, 2018.

File No. 13427: Originally issued to the Pacific Whale Foundation [Responsible Party: Gregory D. Kaufman], Wailuku, HI, on June 4, 2008, authorizes the close vessel approach, photo-identification, focal follows, and acoustic recordings of 16 cetacean species within the waters of Maui County, Hawaii to estimate the abundance and distribution of odontocete species in the area. This study was modified on June 11, 2013, to extend the duration of the LOC until June 15, 2014, add a Co-investigator, and remove authorization to take the endangered Hawaiian insular stock of false killer whales (Pseudorca crassidens). This LOC was cancelled on June 20, 2013, when a new LOC (File No. 18101) was issued to the Pacific Whale Foundation.

File No. 18101: Issued to the Pacific Whale Foundation [Responsible Party: Gregory D. Kaufman], Wailuku, HI, on June 20, 2013, authorizes close vessel approaches, photo-identification, focal follows, and acoustic recordings of 15 cetacean species within the waters of Maui County, Hawaii to estimate the abundance and distribution of odontocete species in the area. The LOC replaces No. 13427 and expires on June 21, 2018.

File No. 18152: Issued to Barbara Brunnick, Ph.D., Jupiter, FL, on September 11, 2013, for research activities including vessel surveys, close approach, photo-identification, and behavioral observations of bottlenose dolphins. The research objective is to continue developing a photo-identification catalog and database to address questions regarding the local abundance, population ecology, life history, habitat utilization, social structure, habitat health, and residency patterns of Atlantic spotted (Stenella frontalis) and bottlenose dolphins. If other dolphin and whale species are encountered, the applicant may collect information on them. This LOC replaces File No. 13386 and expires on September 10, 2018.

In compliance with the National Environmental Policy Act of 1969 (42 U.S.C. 4321 et seq.), a final determination has been made that the activities are categorically excluded from the requirement to prepare an environmental assessment or environmental impact statement.

Dated: October 23, 2013.
P. Michael Payne,
Chief, Permits and Conservation Division, Office of Protected Resources, National Marine Fisheries Service.

[FR Doc. 2013-25458 Filed 10-28-13; 8:45 am]

BILLING CODE 3510-22-P